FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center Web site at http://www.ffiec.gov/nic/.

Unless otherwise noted, comments regarding each of these applications must be received at the Reserve Bank indicated or the offices of the Board of Governors not later than May 15, 2006.

A. Federal Reserve Bank of Philadelphia (Michael E. Collins, Senior Vice President) 100 North 6th Street, Philadelphia, Pennsylvania 19105-1521:

1. Royal Bancshares of Pennsylvania, Inc., Narberth, Pennsylvania; to acquire 100 percent of the voting shares of Royal Asian Bank, Philadelphia, Pennsylvania.

B. Federal Reserve Bank of Atlanta (Andre Anderson, Vice President) 1000 Peachtree Street, N.E., Atlanta, Georgia 30303:

1. Hometown of Homestead, Inc., Fort Pierce, Florida; to become a bank holding company by acquiring 100 percent of the voting shares of First of Homestead, Inc., Homestead, Florida, and thereby indirectly acquire voting shares of 1st National Bank of South Florida, Homestead, Florida.

2. Hometown Banking Company, Inc, Fort Pierce, Florida, and related parties; to become a bank holding company by acquiring up to 50 percent of the voting shares of Hometown of Homestead, Inc., Ft. Pierce, Florida, and thereby indirectly acquire voting shares of 1st National Bank of South Florida, Homestead, Florida.

3. The Prosperity Banking Company, Saint Augustine, Florida, and related parties; to become a bank holding company by acquiring up to 50 percent of the voting shares of Hometown of Homestead, Inc., Fort Pierce, Florida, and thereby indirectly acquire voting shares of 1st National Bank of South Florida, Homestead, Florida.

4. Riverside Gulf Coast Banking Company, Cape Coral, Florida, and related parties; to become a bank holding company by acquiring up to 50 percent of the voting shares of Hometown of Homestead, Inc., Fort Pierce, Florida, and thereby indirectly acquire voting shares of 1st National Bank of South Florida, Homestead, Florida.

Board of Governors of the Federal Reserve System, April 13, 2006.
Jennifer J. Johnson,
Secretary of the Board.

[FR Doc. E6-5775 Filed 4-17-06; 8:45 am]

BILLING CODE 6210-01-S